DEPARTMENT OF HOMELAND SECURITY

Coast Guard

[Docket No. USCG-2024-0338]

National Merchant Mariner Medical Advisory Committee; June 2024 Meeting 7

AGENCY: U.S. Coast Guard, Department of Homeland Security.

ACTION: Notice of open of Federal advisory committee meeting.

SUMMARY: The National Merchant Mariner Medical Advisory Committee (Committee) and its subcommittees will conduct a series of meetings over 2 days in Galveston, Texas to discuss issues relating to medical certification determinations for issuance of licenses, certificates of registry, merchant mariners' documents, and merchant mariner credentials; medical standards and guidelines for the physical qualifications of operators of commercial vessels; medical examiner education; and medical research.

DATES: Meetings: The National Merchant Mariner Medical Advisory Committee is scheduled to meet on Wednesday, June 5, 2024, from 9 a.m. until 4:30 p.m. Central Daylight Time (CDT) and Thursday, June 6, 2024, from 9 a.m. until 4:30 p.m. (CDT). Committee meetings on Wednesday, June 5 will include periods during which the Committee will break into subcommittees. These meetings may adjourn early if the Committee has completed its business.

Comments and supporting documentation: To ensure your comments are received by Committee members before the meeting, submit your written comments no later than May 27, 2024.

ADDRESSES: The meeting will be held at the Waterfront Pavilion at Texas A&M Maritime Academy, Galveston, Texas. Additional information about the facility can be found at: https://www.tamug.edu/directions.html.

The National Merchant Mariner Medical Advisory Committee is committed to ensuring all participants have equal access regardless of disability status. If you require reasonable accommodation due to a disability to fully participate, please email Ms. Pamela Moore at pamela.j.moore@uscg.mil or call at (202) 372-1361 as soon as possible.

Instructions: You are free to submit comments at any time, including orally at the meetings as time permits, but if you want Committee members to review your comment before the meeting, please submit your comments no later than May 27, 2024. We are particularly interested in comments on the topics in the “Agenda” section below. We encourage you to submit comments through the Federal Decision-Making Portal at https://www.regulations.gov. To do so, go to https://www.regulations.gov type USCG-2024-0338 in the search box and click “Search”. Next, look for this document in the Search Results column, and click on it. Then click on the Comment option. If your material cannot be submitted using https://www.regulations.gov, email the individual in the FOR FURTHER INFORMATION CONTACT section of this document for alternate instructions. You must include the docket number USCG-2024-0338. Comments received will be posted without alteration at http://www.regulations.gov, including any personal information provided. You may wish to review the Privacy and Security Notice, found via link on the homepage https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Ms. Pamela Moore, Alternate Designated Federal Officer of the National Merchant Mariner Medical Advisory Committee, telephone (202) 372-1361, or email pamela.j.moore@uscg.mil.

SUPPLEMENTARY INFORMATION: Notice of these meetings is in compliance with the Federal Advisory Committee Act (Pub. L. 117-286, 5 U.S.C. ch. 10). The Committee was established by section 601 of the Frank LoBiondo Coast Guard Authorization Act of 2018 (Pub. L. 115-282, 132 Stat. 4190), and is codified in 46 U.S.C. 15104. The Committee operates under the provisions of the Federal Advisory Committee Act and 46 U.S.C 15109. The Committee advises the Secretary of Homeland Security through the Commandant, Coast Guard on matters relating to: (a) medical certification determinations for issuance of licenses, certificates of registry, and merchant mariners' documents; (b) medical standards and guidelines for the physical qualifications of operators of commercial vessels; (c) medical examiner education; and (d) medical research.

Agenda: The National Merchant Mariner Medical Advisory Committee will meet on Wednesday, June 5, 2024, and Thursday, June 6, 2024, to review, discuss, deliberate, and formulate recommendations, as appropriate on the following topics:

Day 1

The agenda for the June 5, 2024, meeting is as follows:

(1) The full Committee will meet briefly to discuss the subcommittees' Business and open task statements, which are listed under paragraph (11) under Day 2 below.

(2) The full Committee will meet briefly to introduce the new task statements, which are listed under paragraph (6) under Day 2 below.

(3) During the meeting, subcommittees will separately address and work on the following task statements, which are available for viewing at https://homeport.uscg.mil/missions/federal-advisory-committees/national-merchant-mariner-medical-advisory-committee-(nmedmac)/task-statements:

(a) Task Statement 23-01, Directed Review and Revision of COMDTINST M16721.48, Merchant Mariner Medical Manual;

(b) Task Statement 24-X2, Review of the 1978 STCW Convention and Code Seafarer Medical Standards; and

(c) Task Statement 24-X3, Recommendations for Seafarer Training Requirements in Mental Health and Women's Health.

(4) Report of subcommittees. At end of the day, the Chair or Co-Chairs of the subcommittees will report to the full Committee on what was accomplished. The full Committee will not take action on this date and the Chair or Co-Chairs of the subcommittees will present a full report to the Committee on Day 2 of the meeting.

(5) Adjournment of meeting.

Day 2

The agenda for the June 6, 2024, meeting is as follows:

(1) Introduction.

(2) Designated Federal Officer remarks.

(3) Roll call of Committee members and determination of a quorum.

(4) Adoption of the agenda.

(5) Acceptance of Minutes from Committee Meeting 6.

(6) Presentation of New Tasks:

(a) Task Statement 24-X1, Sharing National Merchant Mariner Medical Advisory Committee Recommendations for Mariner Health and Wellness through Proceedings Magazine;

(b) Task Statement 24-X2, Review of the 1978 STCW Convention and Code Seafarer Medical Standards; and

(c) Task Statement 24-X3, Recommendations for Seafarer Training Requirements in Mental Health and Women's Health.

(7) Office of Merchant Mariner Credentialing Update.

(8) Sexual Assault and Sexual Harassment Prevention Update.

(9) National Maritime Center Update.

(10) U.S. Committee on the Marine Transportation System (CMTS)—Mariner Mental Health Workgroup Presentation—Call to Action.

(11) Reports from the subcommittee Chair or Co-Chairs. The Committee will review the information presented on the following Task Statements and deliberate on any recommendations presented by the subcommittees, recommendations may be approved and completed tasks may be closed. Official action on these topics may be taken:

(a) Task Statement 21-01, Recommendations on Mariner Mental Health;

(b) Task Statement 21-02, Communication Between External Stakeholders and the Mariner Credentialing Program;

(c) Task Statement 22-01, Sexual Assault and Sexual Harassment Prevention and Culture Change in the Merchant Marine;

(d) Task Statement 23-01, Directed Review and Revision of COMDTINST M16721.48, Merchant Mariner Medical Manual;

(e) Task Statement 24-X1, Sharing National Merchant Mariner Medical Advisory Committee Recommendations for Mariner Health and Wellness through Proceedings Magazine;

(f) Task Statement 24-X2, Review of the 1978 STCW Convention and Code Seafarer Medical Standards; and

(g) Task Statement 24-X3, Recommendations for Seafarer Training Requirements in Mental Health and Women's Health.

(12) Public comment period.

(13) Closing remarks.

(14) Adjournment of meeting.

A copy of all meeting documentation will be available at https://homeport.uscg.mil/missions/federal-advisory-committees/national-merchant-mariner-medical-advisory-committee-(nmedmac) by May 27, 2024. Alternatively, you may contact the individual noted in the FOR FURTHER INFORMATION CONTACT section above.

Public comments or questions will be taken throughout the meetings as the Committee discusses the issues, and prior to deliberations and voting. There will also be a public comment period during the meeting on June 6, 2024, after reports of the subcommittees, at approximately 1:00 p.m. (CDT). Public comment will be limited to 3 minutes per speaker. Please note that the public comment period will end following the last call for comments. Please contact the individual listed in the FOR FURTHER INFORMATION CONTACT section to register as a speaker.

Dated: May 10, 2024.
Jeffrey G. Lantz,
Director of Commercial Regulations and Standards.

[FR Doc. 2024-10629 Filed 5-14-24; 8:45 am]

BILLING CODE 9110-04-P